DEPARTMENT OF THE INTERIOR

Bureau of Land Management

[LLIDB00000 LF20000000.JS0000 LFESGXW70000 4500036833]

Notice of Temporary Closures on Public Lands in Owyhee County, ID

AGENCY: Bureau of Land Management, Interior.

ACTION: Notice of temporary road closure to motorized vehicle use and temporary area closure to all entry.

SUMMARY: Notice is hereby given that the Con Shea closures are in effect on public lands administered by the Owyhee Field Office, Bureau of Land Management (BLM) and Morley Nelson Snake River Birds of Prey National Conservation Area (NCA-BLM). Two roads will be closed to motorized vehicle traffic due to hazardous road conditions. One area closure will be designated and closed to all uses due to special resource concerns as a result of impacts from wildfire.

DATES: The closures will be in effect on the date this notice is published in the Federal Register and will remain in effect for a maximum of two years.

FOR FURTHER INFORMATION CONTACT: For temporary road closures contact Loretta Chandler, Owyhee Field Office Manager at 20 First Ave. West, Marsing, Idaho, 83639, via email at lchandler@blm.gov, or phone (208) 896-5912. For temporary area closures contact Patricia Roller, Morley Nelson Snake River Birds of Prey National Conservation Area Manager at 3948 Development Ave., Boise, Idaho, 83705, via email at proller@blm.gov, or phone (208) 384-3300. Persons who use a telecommunications device for the deaf (TDD) may call the Federal Information Relay Service (FIRS) at 1-800-877-8339 to contact the above individuals during normal business hours. The FIRS is available 24 hours a day, seven days a week, to leave a message or question with the above individuals. You will receive a reply during normal business hours.

SUPPLEMENTARY INFORMATION:

Roads Closed to Motorized Vehicle Use

The Con Shea (#GXW7) fire closure affects roads crossing public lands located in Owyhee County, Idaho approximately 10 miles northeast of Murphy, which burned June 13-16, 2012. The roads affected by this closure are found in:

Boise Meridian, Idaho

T. 2 S., R. 1 W., secs. 4, 9-10, and

T. 2 S., secs. 24-25, and 36, and T. 2 S., R. 1 E., sec. 30.

Both roads are shown on the map named “Con Shea Closures.”

The Con Shea fire road closure, which accounts for approximately 4 miles of road, is necessary because the roads and adjacent public lands are at risk from further damage by motorized vehicles. Road structure and integrity has been compromised due to heavy use from suppression efforts, and there is the potential for increased overland travel and resource damage. The road closures will eliminate possible new resource damage until precipitation events allow for the roads to pack and are safely passable again. These closures will remain effective for 24 months from the date this notice is published in the Federal Register. The closures will be rescinded earlier if the roads become passable. The BLM will post closure signs at main entry points to the closed roads. This closure will be posted in the Boise District BLM Office and Owyhee Field Office. Maps of the affected area and other documents associated with this closure are available at 3948 Development Avenue, Boise, Idaho, 83705 and 20 First Avenue West, Marsing, Idaho, 83639.

Area Closure

In addition to the road closure, a portion of the affected area will be closed to all public use. This closure affects public lands located in Owyhee County, Idaho approximately 10 miles northeast of Murphy, which burned June 13-16, 2012. The closure is found in:

Boise Meridian, Idaho

T. 1 S., R. 1 W., secs. 34, and 35, and T. 2 S., R. 1 W., sec. 2, generally located south of a non-motorized trail and north of the canyon rim, encompassing approximately 225 acres, as shown on the “Con Shea Closures” map.

This closure is necessary to allow seeded shrub, forb, and grass species to become established; and allow existing plants to recover from the effects of the fire. The BLM will post closure signs at main entry points to the closed areas and/or other locations on-site. This closure will be posted in the Boise District BLM Office and Owyhee Field Office. Maps of the affected area and other documents associated with this closure are available at 3948 Development Avenue, Boise, Idaho, 83705, and 20 First Avenue West, Marsing, Idaho, 83639.

Under the authority of Section 303(a) of the Federal Land Policy and Management Act of 1976 (43 U.S.C. 1733(a)), 43 CFR 8360.0-7, and 43 CFR 8364.1, the BLM will enforce the following rules within the Con Shea fire closure:

Motorized vehicles must not be used on closed roads.

Public entry into the 225 acre closed area is restricted.

Exemptions: The following persons are exempt from this order: Federal, State, and local officers and employees in the performance of their official duties; members of organized rescue or fire-fighting forces in the performance of their official duties; and entities with valid existing use authorizations, i.e. rights-of-way, leases and permits.

Penalties: Any person who violates the above rule may be tried before a United States Magistrate and fined no more than $1,000, imprisoned for no more than 12 months, or both. Violators may also be subject to the enhanced fines provided for in 18 U.S.C. 3571.

Authority: 43 CFR 8364.1.

Loretta Chandler,
Owyhee Field Manager.
Patricia Roller,
Morley Nelson Snake River Birds of Prey NCA Manager.

[FR Doc. 2012-30751 Filed 12-20-12; 8:45 am]

BILLING CODE 4310-GG-P